DEPARTMENT OF AGRICULTURE

Office of the Secretary

Collaborative Forest Landscape Restoration Advisory Committee

AGENCY: Office of the Secretary, USDA.

ACTION: Notice of intent to establish the Collaborative Forest Landscape Restoration Advisory Committee and call for nominations.

SUMMARY: The Secretary of Agriculture intends to establish the Collaborative Forest Landscape Restoration Advisory Committee (Committee) pursuant to Title IV, Section 4003(e) of Omnibus Public Land Management Act of 2009 (Pub. L. 111-11) passed into law on March 30, 2009. The Collaborative Forest Landscape Restoration Advisory Committee is being established to evaluate, and provide recommendations on each project proposal that has been submitted under Section 4003(c)(2) of this act. As required by the Federal Advisory Committee Act, charters for Federal advisory committees must be renewed every 2 years. The Committee is soliciting nominations to fill no more than 15 vacancies with terms up to 2 years. The public is invited to submit nominations for membership on the Collaborative Forest Landscape Restoration Advisory Committee.

DATES: All nominations must be received in writing by March 22, 2010. Nominations must contain a completed application packet that includes the nominee's name, resume, and completed form AD-755 (Advisory Committee Membership Background Information). The package must be sent to the address below.

ADDRESSES: Send nominations and applications to William Timko, USDA Forest Service; Forest Management, Room 3NW; 201 14th Street, SW., Washington, DC 20024 by express mail or overnight courier service. If sent via the U.S. Postal Service, they must be sent to the following address: U.S. Department of Agriculture, Forest Service, Forest Management, National Forest System, Mail Stop 1103, 1400 Independence Avenue, SW., Washington, DC 20250-1123.

FOR FURTHER INFORMATION CONTACT: Thomas Peterson, U.S. Department of Agriculture, National Forest System, Forest Management; telephone 202-205-0893, fax 202-205-1045, e-mail: tpeterson01@fs.fed.us, or contact William Timko, U.S. Department of Agriculture; National Forest System, Forest Management, telephone 202-205-0893, fax 202-205-1045, e-mail: btimko@fs.fed.us. Individuals who use telecommunication devices for the deaf (TDD) may call the Federal Information Relay Service (FIRS) at 1-800-877-8339 between 8 a.m. and 8 p.m., Eastern Standard Time, Monday through Friday.

SUPPLEMENTARY INFORMATION:

Background

Pursuant to the Federal Advisory Committee Act (5 U.S.C. App. II), notice is hereby given that the Secretary of Agriculture intends to establish the charter of the Collaborative Forest Landscape Restoration Advisory Committee (Committee). The purpose of the Committee is to evaluate, and provide recommendations on, the selection of collaborative forest landscape restoration proposals to the Secretary of Agriculture for approval as provided in Title IV, Section 4003(e) of the Omnibus Public Land Management Act of 2009 (Pub. L. 111-11).

The purpose of this title is to encourage the collaborative, science-based ecosystem restoration of priority forest landscapes through a process that:

1. Encourages ecological, economic, and social sustainability;

2. Leverages local resources with national and private resources;

3. Facilitates the reduction of wildfire management costs, including through reestablishing natural fire regimes and reducing the risk of uncharacteristic wildfire; and

4. Demonstrates the degree to which:

a. Various ecological restoration techniques;

(1) Achieve ecological and watershed health objectives; and

(2) Affect wildfire activity and management costs; and

b. The use of forest restoration byproducts can offset treatment costs while benefiting local rural economies and improving forest health.

The Committee is being established in accordance with Section 4003(e) of the Omnibus Public Land Management Act of 2009 (Pub. L. 111-11). The Secretary has determined that the work of the Committee is in the public interest and relevant to the duties of the U.S. Department of Agriculture.

The Committee will meet on an annual basis or as needed; determined by the Committee, and its primary duties will include:

1. Evaluating Collaborative Forest landscape Restoration project proposals with special consideration given to:

a. The strength of the proposal and strategy;

b. The strength of the ecological case of the proposal and the proposed ecological restoration strategies;

c. The strength of the collaborative process and the likelihood of successful collaboration throughout implementation;

d. Whether the proposal is likely to achieve reductions in long-term wildfire management costs:

e. Whether the proposal would reduce the relative costs of carrying out ecological restoration treatments as a result of the use of woody biomass and small-diameter trees; and

f. Whether an appropriate level of non-Federal investment would be leveraged in carrying out the proposal.

2. Provide recommendations on each proposal to the Secretary of Agriculture through the Chief of the Forest Service.

Advisory Committee Organization

The Committee shall be comprised of no more than 15 members and fairly balanced in terms of the points of view represented. The Committee shall include experts in:

1. Ecological Restoration,

2. Fire Ecology,

3. Fire Management,

4. Rural Economic Development,

5. Strategies for Ecological Adaptation to Climate Change,

6. Fish and Wildlife Ecology, and

7. Woody Biomass and Small-Diameter Tree Utilization.

Term and Vacancies

Committee members will be appointed by the Secretary to 2-year terms. Vacancies will be filled in the manner in which the original appointment was made.

Nomination and Application Information for the Forest Resource Coordinating Committee

The appointment of members to the Committee will be made by the Secretary of Agriculture. Any individual or organization may nominate one or more qualified persons to represent the vacancies listed above to serve on the Collaborative Forest Landscape Restoration Advisory Committee. To be considered for membership, nominees must:

1. Identify what expertise they would represent and how they are qualified to represent that skill;

2. State why they want to serve on the committee and what they can contribute;

3. Show their past experience in working successfully as part of a coordinating group; and

4. Complete form AD-755, Advisory Committee Membership Background Information.

Letters of recommendation are welcome. Individuals may also nominate themselves. Form AD-755 may be obtained from Forest Service contact persons or from the following Web site: http://www.fsa.usda.gov/Internet/FSA_File/ad755.pdf. All nominations will be vetted by the Agency. The Secretary of Agriculture shall appoint committee members to the Collaborative Forest Landscape Restoration Advisory Committee from the list of qualified applicants. Applicants are strongly encouraged to submit nominations via overnight mail or delivery to ensure timely receipt by the U.S. Department of Agriculture.

Non-Federal members of the Committee shall serve without pay as special government employees (SGEs), but will be reimbursed for reasonable costs incurred while performing duties on behalf of the Committee. SGEs will be subject to appropriate conflict of interest statutes and standards of ethical conduct. All SGE nominees who are selected must complete the Office of Government Ethics (OGE) 450 Confidential Financial Disclosure Report before rendering any advice or prior to their first meeting. All members will be reviewed for conflict of interest pursuant to 18 U.S.C. 208 in relation to specific Committee work charges. Financial disclosure updates will be required annually. Members must report any changes in financial holdings requiring additional disclosure. OGE 450 forms are available on-line at: http://www.usoge.gov/forms/form_450.aspx.

Equal opportunity practices, in line with USDA policies, will be followed in all appointments to the Committee. To ensure that the recommendation of the Committee has taken into account the needs of the diverse groups served by the Department, membership includes, to the extent practicable, individuals with demonstrated ability to represent minorities, women, persons with disabilities, and senior citizens.

Dated: February 24, 2010.
Pearlie S. Reed,
Assistant Secretary of Administration.

[FR Doc. 2010-4686 Filed 3-4-10; 8:45 am]

BILLING CODE 3410-11-P